DEPARTMENT OF TRANSPORTATION

Federal Aviation Administration

14 CFR Part 39

[Docket No. 2001-NM-84-AD; Amendment 39-12961; AD 2002-23-17]

RIN 2120-AA64

Airworthiness Directives; McDonnell Douglas Model MD-90-30 Airplanes

AGENCY: Federal Aviation Administration, DOT.

ACTION: Final rule.

SUMMARY: This amendment adopts a new airworthiness directive (AD), applicable to all McDonnell Douglas Model MD-90-30 airplanes, that requires one-time inspections to detect discrepancies of electrical wiring installations in various areas of the airplane; and corrective actions, if necessary. The actions specified by this AD are intended to prevent electrical arcing and/or heat-damaged wiring due to improper wire installations or maintenance practices, which could result in fire and smoke in various areas of the airplane. This action is intended to address the identified unsafe condition.

DATES: Effective December 31, 2002.

The incorporation by reference of certain publications listed in the regulations is approved by the Director of the Federal Register as of December 21, 2002.

ADDRESSES: The service information referenced in this AD may be obtained from Boeing Commercial Aircraft Group, Long Beach Division, 3855 Lakewood Boulevard, Long Beach, California 90846, Attention: Data and Service Management, Dept. C1-L5A (D800-0024). This information may be examined at the Federal Aviation Administration (FAA), Transport Airplane Directorate, Rules Docket, 1601 Lind Avenue, SW., Renton, Washington; or at the FAA, Los Angeles Aircraft Certification Office, 3960 Paramount Boulevard, Lakewood, California; or at the Office of the Federal Register, 800 North Capitol Street, NW., Suite 700, Washington, DC.

FOR FURTHER INFORMATION CONTACT: George Mabuni, Aerospace Engineer, Systems and Equipment Branch, ANM-130L, FAA, Transport Airplane Directorate, Los Angeles Aircraft Certification Office, 3960 Paramount Boulevard, Lakewood, California 90712-4137; telephone (562) 627-5341; fax (562) 627-5210.

SUPPLEMENTARY INFORMATION: A proposal to amend part 39 of the Federal Aviation Regulations (14 CFR part 39) to include an airworthiness directive (AD) that is applicable to all McDonnell Douglas Model MD-90-30 airplanes was published in the Federal Register on June 12, 2002 (67 FR 40249). That action proposed to require one-time inspections to detect discrepancies of electrical wiring installations in various areas of the airplane; and corrective actions, if necessary.

Comments

Interested persons have been afforded an opportunity to participate in the making of this amendment. No comments were submitted in response to the proposal or the FAA's determination of the cost to the public.

Explanation of Minor Changes to the Proposed AD

Because the language in Notes 4, 5, 6, 7, 8, 9, and 10 of the proposed AD is regulatory in nature, those notes have been redesignated (and consolidated) as new paragraph (c) of this final rule. The remaining lettered paragraphs and Notes have been reidentified accordingly.

The identity of each service bulletin in the proposed AD has been changed in this final rule from “* * * including Appendix A” to “* * * excluding Appendix and Evaluation Form.” The Appendix and Evaluation Form normally attached to the service bulletins are excluded because they do not contain information necessary to accomplish the requirements of this AD. Further, the Appendix was misidentified in the proposed AD as “Appendix A.”

Conclusion

After careful review of the available data, the FAA has determined that air safety and the public interest require the adoption of the rule with the changes described previously. The FAA has determined that these changes will neither increase the economic burden on any operator nor increase the scope of the AD.

Cost Impact

There are approximately 115 airplanes of the affected design in the worldwide fleet. The FAA estimates that 25 airplanes of U.S. registry will be affected by this AD, that it will take approximately 49 work hours per airplane to accomplish all of the inspections, and that the average labor rate is $60 per work hour. Based on these figures, the cost impact of the inspections required by this AD on U.S. operators is estimated to be $73,500, or $2,940 per airplane. Warranty remedies may be available from the airplane manufacturer for labor costs associated with this AD. As a result, the costs attributable to the AD may be less than stated above.

The cost impact figure discussed above is based on assumptions that no operator has yet accomplished any of the requirements of this AD, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2002-23-17 McDonnell Douglas: Amendment 39-12961. Docket 2001-NM-84-AD.

Applicability: All Model MD-90-30 airplanes, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance: Required as indicated, unless accomplished previously.

Note 2: The FAA recommends that the actions required by this AD be accomplished after the replacement of the metallized polyethyleneteraphthalate (MPET) insulation blankets required by AD 2000-11-01, amendment 39-11749.

To prevent electrical arcing and/or heat-damaged wiring due to improper wire installations or maintenance practices, which could result in fire and smoke in various areas of the airplane, accomplish the following:

One-Time Detailed Inspections

(a) Within 5 years after the effective date of this AD, accomplish the actions specified in paragraphs (a)(1), (a)(2), (a)(3), (a)(4), (a)(5), (a)(6), and (a)(7) of this AD.

(1) Do a one-time detailed inspection of all electrical wiring installations in the flight compartment and forward drop ceiling area, according to the Accomplishment Instructions of Boeing Service Bulletin MD90-24-066, excluding Appendix and Evaluation Form, Revision 01, dated February 8, 2001.

Note 3: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

(2) Do a one-time detailed inspection of all electrical wiring installations in the electronic/electrical (E/E) compartment according to the Accomplishment Instructions of Boeing Service Bulletin MD90-24-067, excluding Appendix and Evaluation Form, Revision 01, dated February 8, 2001.

(3) Do a one-time detailed inspection of all electrical wiring installations in the forward passenger compartment from stations Y=260.000 to Y=902.000 according to the Accomplishment Instructions of Boeing Service Bulletin MD90-24-068, excluding Appendix and Evaluation Form, Revision 01, dated February 8, 2001.

(4) Do a one-time detailed inspection of all electrical wiring installations in the aft passenger compartment from stations Y=902.000 to Y=1395.000 according to the Accomplishment Instructions of Boeing Service Bulletin MD90-24-069, excluding Appendix and Evaluation Form, Revision 01, dated February 8, 2001.

(5) Do a one-time detailed inspection of all electrical wiring installations in the forward and mid cargo compartments from stations Y=218.000 to Y=845.000 according to the Accomplishment Instructions of Boeing Service Bulletin MD90-24-070, excluding Appendix and Evaluation Form, Revision 01, dated February 8, 2001.

(6) Do a one-time detailed inspection of all electrical wiring installations in the aft cargo compartment from stations Y=1064.000 to Y=1369.000 according to the Accomplishment Instructions of Boeing Service Bulletin MD90-24-071, excluding Appendix and Evaluation Form, Revision 01, dated February 8, 2001.

(7) Do a one-time detailed inspection of all electrical wiring installations in the forward accessory compartment from stations Y=41.000 to Y=70.000 according to the Accomplishment Instructions of Boeing Service Bulletin MD90-24-072, excluding Appendix and Evaluation Form, Revision 01, dated February 8, 2001.

Corrective Action

(b) If any discrepancy is detected during any inspection required by paragraph (a) of this AD: Before further flight, accomplish the applicable corrective action(s) according to the Accomplishment Instructions of the applicable service bulletins listed in paragraphs (b)(1), (b)(2), (b)(3), (b)(4), (b)(5), (b)(6), and (b)(7) of this AD. Corrective actions that may be necessary include repairing cracked, split, or torn wiring insulation; re-attaching nylon (caterpillar) grommets; installing smaller-sized clamps; adjusting, replacing, or tightening sta-straps; repositioning certain wiring or clamps; tightening or securing clamps, terminals, or wire bundles; re-torquing screw terminals of the flag lug bus bar; repairing or replacing certain wiring, terminals, splices, or connectors; installing protective sleeving over wiring; and installing a silicone glass cloth over conduit ends.

(1) Boeing Service Bulletin MD90-24-066, excluding Appendix and Evaluation Form, Revision 01, dated February 8, 2001.

(2) Boeing Service Bulletin MD90-24-067, excluding Appendix and Evaluation Form, Revision 01, dated February 8, 2001.

(3) Boeing Service Bulletin MD90-24-068, excluding Appendix and Evaluation Form, Revision 01, dated February 8, 2001.

(4) Boeing Service Bulletin MD90-24-069, excluding Appendix and Evaluation Form, Revision 01, dated February 8, 2001.

(5) Boeing Service Bulletin MD90-24-070, excluding Appendix and Evaluation Form, Revision 01, dated February 8, 2001.

(6) Boeing Service Bulletin MD90-24-071, excluding Appendix and Evaluation Form, Revision 01, dated February 8, 2001.

(7) Boeing Service Bulletin MD90-24-072, excluding Appendix and Evaluation Form, Revision 01, dated February 8, 2001.

Note 4: The Appendix of the service bulletins referenced in paragraphs (b)(1), (b)(2), (b)(3), (b)(4), (b)(5), (b)(6), and (b)(7) of this AD contains a form to report inspection findings. This AD does NOT require such reports to be submitted to the FAA.

Credit for Previous Accomplishment per Earlier Service Bulletin Version

(c) Inspections and corrective actions done before the effective date of this AD according to the Accomplishment Instructions of the applicable service bulletins listed in the following table are acceptable for compliance with the applicable paragraphs of this AD:

McDonnell Douglas service bulletin | Applicable paragraphs of this AD
MD90-24-066, excluding Appendix and Evaluation Form, dated July 28, 2000 | (a)(1) and (b)(1)
MD90-24-067, excluding Appendix and Evaluation form, dated July 28, 2000 | (a)(2) and (b)(2)
MD90-24-068, excluding Appendix and Evaluation Form, dated July 28, 2000 | (a)(3) and (b)(3)
MD90-24-069, excluding Appendix and Evaluation Form, dated July 28, 2000 | (a)(4) and (b)(4)
MD90-24-070, excluding Appendix and Evaluation Form, dated July 28, 2000 | (a)(5) and (b)(5)
MD90-24-071, excluding Appendix and Evaluation Form, dated July 28, 2000 | (a)(6) and (b)(6)
MD90-24-072, excluding Appendix and Evaluation Form, dated July 28, 2000 | (a)(7) and (b)(7)

Alternative Methods of Compliance

(d) An alternative method of compliance or adjustment of the compliance time that provides an acceptable level of safety may be used if approved by the Manager, Los Angeles Aircraft Certification Office (ACO), FAA. Operators shall submit their requests through an appropriate FAA Principal Maintenance Inspector, who may add comments and then send it to the Manager, Los Angeles ACO.

Note 5: Information concerning the existence of approved alternative methods of compliance with this AD, if any, may be obtained from the Los Angeles ACO.

Special Flight Permits

(e) Special flight permits may be issued in accordance with sections 21.197 and 21.199 of the Federal Aviation Regulations (14 CFR 21.197 and 21.199) to operate the airplane to a location where the requirements of this AD can be accomplished.

Incorporation by Reference

(f) Unless otherwise specified in this AD, the actions shall be done in accordance with Boeing Service Bulletin MD90-24-066, excluding Appendix and Evaluation Form, Revision 01, dated February 8, 2001; Boeing Service Bulletin MD90-24-067, excluding Appendix and Evaluation Form, Revision 01, dated February 8, 2001; Boeing Service Bulletin MD90-24-068, excluding Appendix and Evaluation Form, Revision 01, dated February 8, 2001; Boeing Service Bulletin MD90-24-069, excluding Appendix and Evaluation Form, Revision 01, dated February 8, 2001; Boeing Service Bulletin MD90-24-070, excluding Appendix and Evaluation Form, Revision 01, dated February 8, 2001; Boeing Service Bulletin MD90-24-071, excluding Appendix and Evaluation Form, Revision 01, dated February 8, 2001; and Boeing Service Bulletin MD90-24-072, excluding Appendix and Evaluation Form, Revision 01, dated February 8, 2001; as applicable. This incorporation by reference was approved by the Director of the Federal Register in accordance with 5 U.S.C. 552(a) and 1 CFR part 51. Copies may be obtained from Boeing Commercial Aircraft Group, Long Beach Division, 3855 Lakewood Boulevard, Long Beach, California 90846, Attention: Data and Service Management, Dept. C1-L5A (D800-0024). Copies may be inspected at the FAA, Transport Airplane Directorate, 1601 Lind Avenue, SW., Renton, Washington; or at the FAA, Los Angeles ACO, 3960 Paramount Boulevard, Lakewood, California; or at the Office of the Federal Register, 800 North Capitol Street, NW., Suite 700, Washington, DC.

Effective Date

(g) This amendment becomes effective on December 31, 2002.

Issued in Renton, Washington, on November 14, 2002.
Vi L. Lipski,
Manager, Transport Airplane Directorate, Aircraft Certification Service.

[FR Doc. 02-29805 Filed 11-25-02; 8:45 am]

BILLING CODE 4910-13-P